DEPARTMENT OF LABOR

Employment and Training Administration

Notice of Availability of Funds and Solicitation for Grant Applications (SGA) for YouthBuild Grants

AGENCY: Employment and Training Administration, U.S. Department of Labor.

Announcement Type: Notice of Solicitation for Grant Applications.

Funding Opportunity Number: SGA/DFA PY 10-02.

Catalog of Federal Domestic Assistance (CFDA) Number: 17.274.

Key Dates: The closing date for receipt of applications under this announcement is December 3, 2010. Applications must be received no later than 4 p.m. Eastern Time. A Virtual Prospective Applicant Conference (Webinar) will be held for this grant competition. The date and access information for this Virtual Prospective Applicant Conference will be posted on ETA's Web site at http://www.doleta.gov/youth%5Fservices/youthbuildgrantee.cfm. While a review of this Webinar is encouraged, it is not mandatory that applicants view this recording.

SUMMARY: The Employment and Training Administration (ETA), U.S. Department of Labor (DOL, or the Department), announces the availability of up to approximately $130 million in grant funds for YouthBuild Grants (the final amount available depends upon the amount of funds appropriated for YouthBuild in the Fiscal Year (FY) 2011 Department of Labor Appropriations Act). These funds are from separate appropriations and will be awarded separately. Thirty million dollars in FY 2010 funds are available for immediate award and will be reserved for awards to organizations that did not receive funding in the FY 2009 YouthBuild competition [SGA/DFA PY 08-07]. Awards from the FY 2011 appropriation will be selected after April 1, 2011, pending availability of funds.

YouthBuild Grants will be awarded through a competitive process. Grant funds will be used to provide disadvantaged youth with: The education and employment skills necessary to achieve economic self-sufficiency in occupations in high demand and postsecondary education and training opportunities; opportunities for meaningful work and service to their communities; and opportunities to develop employment and leadership skills and a commitment to community development among youth in low-income communities. As part of their program, YouthBuild grantees will tap the energies and talents of disadvantaged youth to increase the supply of permanent affordable housing for homeless individuals and low-income families and to help youth develop the leadership, learning, and high-demand occupational skills needed to succeed in today's global economy.

Based on the amount of FY 2010 funds available and our projections for FY 2011 funding, DOL hopes to serve approximately 8,500 youth participants during the grant period of performance, with projects operating in approximately 128 communities across the country. Under this solicitation, DOL will be awarding grants to organizations to oversee the provision of education and employment services to disadvantaged youth in their communities. Each applicant should indicate the proposed number of participants to be served based on an average cost per participant of between $15,000 and $18,000.

This solicitation provides background information and describes the application submission requirements, outlines the process that eligible entities must use to apply for funds covered by this solicitation, and details the evaluation criteria used as a basis for selecting grantees. Applicants should read the entire SGA and note specific sections that contain required information, such as in Section III.D, Section IV.B, and Section V.A, where failure to comply will be considered non-responsive and those applicants will then not be considered for funding.

The Department is committed to providing the public with an open and transparent grant selection process and to providing useful information to assist prospective applicants with developing quality proposals. One way to achieve these goals is through public access to selected and non-selected grant applications. Applicants are advised that the information they submit in response to this solicitation may be posted on a publicly accessible Web site or may otherwise be made available to the public.

ADDRESSES: Mailed applications must be addressed to the U.S. Department of Labor, Employment and Training Administration, Division of Federal Assistance, Attention: Donna Kelly, Grant Officer, Reference SGA/DFA PY 10-02, 200 Constitution Avenue, NW., Room N4716, Washington, DC 20210. For complete “Application and Submission Information,” please refer to section IV.

SUPPLEMENTARY INFORMATION: This solicitation consists of nine sections:

• Section I provides background information on YouthBuild, YouthBuild program objectives, and additional information on the key components of YouthBuild to consider when preparing an application.

• Section II describes the size and nature of the anticipated awards.

• Section III describes eligibility information.

• Section IV provides information on the application and submission process.

• Section V describes the criteria against which applications will be reviewed and explains the proposal review process.

• Section VI provides award administration information.

• Section VII contains ETA agency contact information.

• Section VIII lists additional resources of interest to applicants.

• Section IX lists other pertinent information.

I. Funding Opportunity Description

YouthBuild is a youth and community development program that simultaneously addresses several core issues facing low-income communities: housing, education, employment, crime prevention, and leadership development. Part A of this section provides a background of the YouthBuild program. Part B describes the core objectives of the YouthBuild program, with Part C providing additional information on key components of YouthBuild to consider when preparing a grant application.

A. Background

The YouthBuild model balances in-school learning that leads to the achievement of a high school diploma or passing the General Education Development (GED) test, and construction skills training that prepares youth for career placement. The in-school component is an alternative education program that assists youth who are often significantly behind in basic skills to obtain a high school diploma or GED credential. The primary target populations for YouthBuild are high school dropouts who may also be adjudicated youth, youth aging out of foster care, youth with disabilities, and other at-risk youth populations. The YouthBuild model enables these youth to access the education they need to move on to post-secondary education and/or high-growth, high-demand jobs which will enable them to prosper in the 21st century economy. There are currently over 200 YouthBuild programs operating in the United States, funded through various sources.

YouthBuild was started in East Harlem, New York in 1978 to provide education services for youth and teach construction skills while renovating and building homes for low-income families. It was replicated in five locations in New York City during the 1980s. In 1993, the YouthBuild program was established by Federal statute and the U.S. Department of Housing and Urban Development (HUD) was designated as the agency responsible for administering the program.

The YouthBuild Transfer Act (Pub. L. 109-281), enacted in September 2006, transferred the statutory authority for the program, with needed modifications and improvements, to subtitle D of Title I of the Workforce Investment Act (WIA) (29 U.S.C. 2918a).

Since its inception, the primary purpose of the YouthBuild program has been to provide job training and employment opportunities for disadvantaged youth. ETA will leverage its significant expertise and resources in the area of workforce investment under WIA to strengthen YouthBuild grantees' connections to One-Stop Career Centers and the Department's registered apprenticeship programs; leverage investments such as the Community-Based Job Training grants (http://www.doleta.gov/business/Community-BasedJobTrainingGrants.cfm); improve access to the post-secondary and community college system; and broker connections to the workforce system's business partners.

B. YouthBuild Program Objectives

Funds made available through the YouthBuild grants will be used to carry out a YouthBuild program with the following core objectives:

• To enable disadvantaged youth to obtain the education and employment skills necessary to achieve economic self-sufficiency in occupations in demand and post-secondary education and training opportunities;

• To provide disadvantaged youth with opportunities for meaningful work and service to their communities;

• To foster the development of employment and leadership skills and commitment to community development among youth in low-income communities; and

• To expand the supply of permanent affordable housing for homeless individuals and low-income families by utilizing the energies and talents of disadvantaged youth.

C. Key Components and Additional Information About the YouthBuild Grant Application Process

Although there is no way to address every question in this solicitation, the following questions are frequently asked and are included for your information.

What type of information should be addressed in the design of the program?

Section IV Part II of the application contains information about the Technical Proposal, which should address specific grant requirements identified in Section A of Part V of this SGA. Applicants applying for these grants are asked to describe their community, the youth to be served, the need for this Federal support, and their plan for providing education, skills training, and leadership development services to youth. They must also demonstrate that they have established partnerships with—or made a good faith effort to establish partnerships with—Local Workforce Investment Boards, the public school system, local community colleges, the juvenile justice system, registered apprenticeship programs, disability and mental health organizations, local faith-based and community organizations that serve at-risk and disadvantaged youth, and/or the local housing authority. Applicants are expected to identify their plan to leverage other Federal, State, or local funding, as well as private funding sources, to provide other “wraparound” supportive services as well as to support the costs associated with their defined construction project. Applicants are asked to describe their previous experience operating YouthBuild or youth workforce development programs of similar complexity that provide at-risk youth with educational and skill training in housing rehabilitation and construction activities. They are also asked to describe their organization's ability to manage this grant. In addition, applicants are asked to describe how occupational safety is addressed at their worksite. Applicants must provide a description of the worksite, using ETA Form 9143, that will be used to train YouthBuild participants and must provide the necessary paperwork that indicates access to this property has been granted for the program and participants. Finally, applicants are asked to discuss any training that is being provided in “green” construction.

What size grants are available?

Applicants can apply for three-year grants (two years of program operations with a nine- to twelve-month follow-up period) that will range from $700,000 to $1.1 million. These awards will support two years of core program operations (education, occupational skills training, and youth leadership development activities) plus an additional nine to twelve months of follow-up support services and tracking of participant outcomes for each cohort of youth. A minimum of five percent of total funds should be reserved for the nine- to twelve-month follow-up period.

If an organization was selected to receive a new award in FY 2009 (awarded July 2009), are they eligible to apply in this YouthBuild competition?

Yes; however, grantees who received funding from the FY 2009 YouthBuild competition [SGA/DFA PY 08-07], (including any affiliates or members or affiliates of a grantee's leadership team) will not receive funding from the $30 million remaining in FY 2010 funds. Projects funded from the $30 million in FY 2010 funds will be limited to applications submitted by organizations that did not receive funding from the FY 2009 YouthBuild competition [SGA/DFA PY 08-07]. If grantees who received funding from the FY 2009 YouthBuild [SGA/DFA PY 08-07] competition are selected for award in this competition, they will be funded from the FY 2011 appropriation, pending availability of funds. If an applicant that did not receive funding in the FY 2009 YouthBuild competition [SGA/DFA PY 08-07] does not receive an award from the approximately $30 million remaining in FY 2010 funds, their application will automatically be considered for an award from the FY 2011 appropriation.

What roles must partners play in partnerships?

Because disadvantaged youth possess a wide range of challenges that must be addressed through multiple strategies, prospective applicants must identify resources and services provided by faith-based and community organizations, government entities, and other youth-serving organizations. Collaboration across youth-serving agencies/organizations is critical to the success of any youth initiative or program. A single organization does not typically have the resources to respond to the myriad of issues that impact youth most in need.

Partnerships and their roles will vary depending on the applicant's strategy and participant needs. However, DOL expects that the applicant will make a good-faith effort to attract the following partners and that each collaborative partner will, at a minimum, contribute as described below.

Education and training providers (Kindergarten through 12, adult education, community and technical colleges, 4-year colleges and universities, and other training entities) are important foundational partners to ensure the project's activities are tied to the broader continuum of education providers in the community. YouthBuild programs should have explicit, well-defined pathways to post-secondary educational opportunities such as community and 4-year colleges, registered apprenticeship programs, and other occupational training programs whenever possible to ensure the smooth transition of YouthBuild participants.

Employers (including professional organizations and trade associations) should be actively engaged in the project and should participate fully in grant activities including: Defining the program strategy and goals; identifying needed skills and competencies; designing training approaches and curricula; contributing financial support; sponsoring apprenticeship and pre-apprenticeship placements and activities; and, where appropriate, hiring qualified YouthBuild graduates.

The workforce investment system (which may include State and Local Workforce Investment Boards, State Workforce Agencies, and One-Stop Career Centers and their partners, as such terms are defined under the WIA) may play a number of roles, including: Identifying and assessing potential candidates for YouthBuild; working collaboratively to leverage WIA investments through co-enrollment with the Youth formula program; referring qualified candidates to the YouthBuild program for enrollment; providing access to “wraparound” supportive services, when appropriate; providing local labor market information to YouthBuild staff and participants; and connecting qualified YouthBuild graduates to employers that have existing job openings. Examples of YouthBuild programs working with the workforce system can be found in Training and Employment Notice No. 44-07, “Providing Strategies to the One-Stop Career Center System on Collaborating with YouthBuild Programs” at http://wdr.doleta.gov/directives/corr_doc.cfm?DOCN=2646.

The juvenile justice system is an important partner in referring potential participants to the YouthBuild program, providing support and guidance for YouthBuild participants with court involvement, and assisting in the reporting of recidivism rates among YouthBuild participants. Some YouthBuild participants may be placed in the program as a form of alternative sentencing or for re-entry services. In these instances, police, parole and probation officers, detention and juvenile correction facilities, judges, and social workers will be critically important partners for creating a safety net to prevent recidivism and ensure attachment to the community.

Faith-based and community organizations are valuable partners in the YouthBuild program. These organizations can serve as avenues of outreach to eligible youth and may provide a variety of grant services, such as case management, mentoring, and English as a Second Language (ESL) courses, as well as other comprehensive supportive services, when appropriate, for YouthBuild participants.

Each collaborative partner must have a clearly defined role. These roles must be verified through a letter of commitment (not just a letter of support) submitted by each partner. The letter of commitment must detail the role the partner will play in the project, including specific responsibilities and resources committed, if appropriate. These letters must clearly indicate the partnering organization's unique contribution and commitment to the project.

In situations where the applicant is unable to develop a partnership with one of the required types of organizations because the organization refuses to do so, the applicants should, at a minimum, demonstrate that the potential partner was contacted and provided a sufficient opportunity for response. It is suggested that applicants use registered mail to demonstrate such efforts.

What if two or more organizations submit separate applications to serve the same urban or rural community?

If more than one proposal to serve the same urban or rural community is rated highly, DOL will consider whether the urban or rural community is large enough to support more than one project.

Can I apply for multiple towns in one application?

If a town is large enough to reasonably support a YouthBuild program, the grant activities should generally be focused on one town. If the applicant determines that the town is not large enough to support a YouthBuild program, it may include additional towns and provide justification for one larger service area. If multiple towns are included together in the application, applicants may not request more than the maximum grant amount, $1.1 million.

What is the definition of “low-income” family for the purposes of program eligibility?

The definition of “low-income family” is taken directly from the United States Housing Act of 1937 (42 U.S.C. 1437a(b)(2)) which states:

“The term `low-income families' means those families whose incomes do not exceed 80 per centum of the median income for the area, as determined by the Secretary with adjustments for smaller and larger families, except that the Secretary may establish income ceilings higher or lower than 80 per centum of the median for the area on the basis of the Secretary's findings that such variations are necessary because of prevailing levels of construction costs or unusually high or low family incomes.”

The median income for each applicant's proposed area of service can be found at HUD's Web site: http://www.huduser.org/datasets/il.html.

What are allowable uses of grant funds?

Allowable uses of grant funds may include:

(1) Education and Workforce Activities, such as:

• Basic skills instruction and remedial education;

• Language instruction educational programs for individuals with limited English proficiency;

• Secondary education services and activities, including tutoring, study skills training, and dropout prevention activities, designed to lead to the attainment of a secondary school diploma, GED credential, or other State-recognized equivalent (including recognized alternative standards for individuals with disabilities);

• Counseling and assistance in obtaining post-secondary education and required financial aid;

• Alternative secondary school services;

• Work experience and skills training (coordinated, to the maximum extent feasible, with the YouthBuild Trainee Apprenticeship Preparation program (YB-TAP),¹ pre-apprenticeship and registered apprenticeship programs) in housing rehabilitation and construction activities;

¹ The YouthBuild Trainee Apprenticeship Preparation (YB-TAP) program is a set of construction standards recognized by the U.S. Department of Labor's Office of Apprenticeship that are aligned with curricula from the Home Builders Institute's HPACT program, the National Center for Construction Education and Research, and the Building Trades Multi-Craft Core Curriculum. These standards are included as Appendix A of this solicitation.

• Occupational skills training; and

• Other paid and unpaid work experiences, including internships and job shadowing.

(2) Case management, counseling services and related activities, such as comprehensive guidance and counseling on drug and alcohol abuse and referral.

(3) Youth development activities, such as:

• Community service and peer-centered activities encouraging responsibility and other positive social behaviors, and

• Leadership development activities including youth policy committees that allow YouthBuild participants to engage in local policy and decision-making related to the program.

(4) Supportive services and provision of needs-based payments necessary to enable individuals to participate in the program.

(5) Supportive services to assist individuals, for a period not to exceed 12 months after the completion of training, in obtaining or retaining employment, or applying for and transitioning to post-secondary education.

(6) Supervision and training for participants in the rehabilitation or construction of housing, including residential housing for homeless individuals or low-income families, or transitional housing for homeless individuals.

(7) Supervision and training for participants in the rehabilitation or construction of community and other public facilities.

(8) Payment of a portion of the administrative costs of the grantee.

(9) Mentoring (one-on-one, group or team) of participants by adults who have been appropriately screened and matched to work with youth.

(10) Provision of wages, stipends, or other benefits and incentives to participants in the program.

(11) Ongoing training and technical assistance for staff that are related to developing and carrying out the program.

(12) Activities related to follow-up and tracking of participant performance.

(13) Equipment and/or supplies related to the YouthBuild activities funded through this grant. The purchase of construction materials to be used as part of the direct training for YouthBuild participants would be an allowable use of grant funds.

What costs are allowable for orientation/mental toughness?

For guidance on orientation/mental toughness allowable costs, please go to: Mental Toughness/Orientation Allowable Costs in a YouthBuild Program http://wdr.doleta.gov/directives/attach/TEGL/TEGL14-09acc.pdf.

Can training be provided in industries other than construction?

No, DOL YouthBuild funds provided under this solicitation cannot be used to support occupational skills training other than construction. Programs may offer training in other industries; however, other funding sources must be used to support these career pathways.

Can training be provided in green construction and the use of sustainable building materials?

Yes, DOL encourages YouthBuild funds provided under this solicitation to be used to train youth in green construction skills that will prepare them for employment in green jobs and encourages the use of sustainable building materials in the construction and rehabilitation of affordable housing. However, this green construction skills training must be part of a construction curriculum that leads to an industry-recognized credential. That is, if youth complete a green construction module that is either a stand-alone module or is part of a general construction curriculum, it cannot be counted as a credential for purposes of the credential attainment performance measure. It is similar to Occupational Safety and Health Administration (OSHA) or Cardio Pulmonary Resuscitation (CPR) training; both are important parts of an overall construction training program but do not represent an industry-recognized credential.

Will Youthbuild projects be required to follow OSHA guidelines?

Yes, YouthBuild projects will be required to follow OSHA guidelines in the operation of their construction projects and to submit incident reports to DOL of injuries occurring on worksites. DOL will require that YouthBuild grantees:

• Provide comprehensive documented training on construction safety for youth working on YouthBuild projects, including requirements for youth to demonstrate knowledge of and proficiency in hazard identification, abatement, and safe work practices;

• Demonstrate compliance with Federal and State child labor laws and occupational safety and health regulations;

• Provide written worksite-specific safety plans overseen by an on-site supervisor with the knowledge, skills, and authority to correct safety and health hazards and enforce the site-specific safety plan;

• Provide necessary personal protective equipment to youth working on YouthBuild projects; and

• Report to DOL all worksite injuries and illnesses to youth working on YouthBuild projects, along with documentation on remedial measures to prevent future similar injuries and help ensure that YouthBuild is a model program that takes active steps for participant safety and health.

Can DOL funds be used for paid work experiences, needs-based stipends, wages, and other supportive services?

Payments to participants for classroom training, paid work experiences, and occupational skills training, as well as other needs-based supportive services, are allowable expenses. If the applicant plans to use grant funds for these purposes, sufficient information must be provided in the budget narrative to clearly justify the proposed amounts to be provided. Grantees are responsible for consulting with an accountant or other experts to ascertain if their payment structure complies with IRS standards.

Is the purchase of food an allowable use of funds?

DOL considers food to be an allowable cost for YouthBuild when used as a supportive service. To qualify, the provision of food must be needs-based and must be necessary to enable the recipient to participate in the program. The purchase of food is an unallowable cost for grant funds if expended for any reason other than needs-based supportive services. To provide food as a supportive service, grantees must create and consistently apply a written policy for determining needs-based services for participants. Grantees can provide food to enrollees as part of an on-site training class or work-site experience where access to food services and vendors is unavailable or unreliable, but must document in the grant files that providing such food directly is reasonable and necessary in order to ensure continuity of training services.

Should prospective applicants include travel costs associated with technical assistance and training in their budget?

Prospective applicants should include travel funds in their budget to cover travel for several key staff to attend at least one national meeting per year and at least two regional trainings per year.

How will success be measured under these grants?

The three outcome measures are:

• Literacy and numeracy gains;

• High School diploma/GED/degree or certificate attainment rate; and

• Placement in employment/post-secondary education/occupational skills training program/military.

In addition, grantees must report on a number of interim indicators that may serve as predictors of success. Interim indicators include:

• Enrollment rate;

• Participation in education/training activities;

• Workforce preparation;

• Mentoring;

• Community service/leadership activities;

• Placement retention rate; and

• Recidivism.

In applying for these grants, applicants agree to submit updated Management Information System (MIS) data on enrollee characteristics, services provided, placements, outcomes, and follow-up status. YouthBuild grantees are required to use the ETA Web-based Case Management and Performance System, which is provided to grantees at no cost.

What is the expected average cost per participant?

DOL expects the cost to be between $15,000 and $18,000 per participant.

When is the Youthbuild program expected to begin enrolling youth under this SGA?

Grantees must begin program operations, including the enrollment of youth, within six months from the date of the award.

The following questions involve allowable construction costs:

Can funds be used for rehabilitation or construction of buildings other than low-income housing?

Yes. In training participants, up to 10 percent of grant funds may be used in the rehabilitation or construction of community and other public facilities. The term “community and other public facilities” means those facilities which are publicly owned and publicly used for the benefit of the community. Examples include public-use buildings such as recreation centers, libraries, public park shelters, or public schools. This term may also encompass facilities used by the program but only if the facility is publicly owned and available for public entry and use. YouthBuild participants may not repair or renovate buildings used solely by the grantee, such as offices or classrooms. The remaining 90 percent of funds must be used to train participants in the rehabilitation or construction of low-income housing.

Would construction of a kitchen or shower facility be an allowable cost in a public facility?

If it is a public facility that needs to have a kitchen or shower facility installed and it is done under the 10 percent limitation and it is used for training purposes, then it is allowable.

Does a federally-qualified health care facility qualify as an allowable construction site?

The rehabilitation of a community health facility is permissible. The 10 percent limitation would apply to such costs.

Are architectural fees an allowable use of grant funds?

Yes, architectural fees, or a proportionate share thereof, are allowable when such fees can be related to items such as architectural plans or blueprints on which participants will be trained.

Are brokerage fees an allowable use of grant funds?

No, brokerage fees and other fees associated with the acquisition of property are not directly related to participant training and are not an allowable use of grant funds. We consider these fees to be too attenuated from the costs of participant training to be allowable.

Are subcontractor costs and supplies, (e.g., roofing, landscaping, etc.), allowable uses of grant funds?

Non-training services and deliverables that are not directly related to participant training are not an allowable use of grant funds unless they are used in the provision of training. Property enhancements, such as landscaping, are not allowable grant costs, if not performed by youth as part of their training activities.

Can unallowable costs be used to fulfill the 25 percent match requirement?

If the cost is not allowed to be paid with grant funds, it would also not be acceptable in fulfilling the 25 percent match requirement.

Can funds be used to purchase land?

Grant funds may not be used to purchase land.

Can grant funds be used to purchase a home to rehabilitate for the project?

Grantees may only charge a proportion of the purchase cost, exclusive of land, which is reflective of the portion of the property that will be used for participant training.

Should prospective applicants provide more than 25 percent match?

No. Any amounts over 25 percent match will not be considered in evaluating proposals. Grantees with additional resources should allocate them as leveraged funds for the purposes of planning and budgeting.

How will ETA evaluate the Youthbuild program?

ETA has contracted with an independent organization to conduct a rigorous, national evaluation of the YouthBuild program. A subset of grantees will be selected to participate in the evaluation and those that are selected will be required to participate.

The evaluation will use a random assignment design, which includes a computerized process that will randomly select which of the youth that grantees deem eligible and appropriate for the program will receive YouthBuild services. This process, similar to drawing names from a hat, is fair and ensures that everyone has the same chance of getting YouthBuild services. Those who are not admitted will form a control group and may be referred to other non-similar youth services. The grantees will be responsible for obtaining the consent of applicants to be randomly selected to be in the control group, and for informing the applicants that they have been selected. The evaluation contractor will work with each grantee to develop study procedures that minimize any disruption of the grantee's intake procedures and program operations. It is expected that the evaluation will not reduce the total number of youth who are served by the YouthBuild program. Grantees selected to participate in this study will be required to cooperate fully with ETA and the evaluation team in the conduct of the study. Grantee staff will be required to participate in one survey and host site visits by the research team.

The Following Questions Involve the Random Assignment Evaluation:

Participation in the YouthBuild evaluation will provide important input into the national debate about policies and practices designed to improve the well-being of disadvantaged youth. Although DOL and the evaluation team are continuing to work out the details of the study design, below are answers to some questions grantees may have about the evaluation.

How will grantees be selected for the evaluation and how many will be selected?

Approximately 60 grantees will be selected to participate in the evaluation. Grantees will be selected randomly, but some types of grantees (for example, those that have never operated a YouthBuild program before) may be excluded from consideration. Larger programs may have a greater chance of being selected in order to ensure that the evaluation includes a sufficient number of young people.

YouthBuild has been evaluated before; why is this evaluation necessary?

Previous evaluations of YouthBuild have provided very useful information, but none of them was designed to determine what difference YouthBuild makes for the young people it serves compared to what would have happened if they did not participate. The new evaluation is the first one to use a random assignment design, which is considered to provide the most reliable evidence about the effectiveness of a social program. Other national youth programs such as the Job Corps, Service and Conservation Corps, and the National Guard Youth ChalleNGe program have already been part of random assignment evaluations. These evaluations are critical to ensuring that young people are receiving services that will improve their life opportunities and demonstrating to policy-makers that their investment is paying off.

Will the evaluation mean that programs serve fewer youth than before?

Most YouthBuild programs are only able to serve a very small fraction of the youth in their communities who might benefit and who apply. Programs participating in the evaluation will assess and screen youth to identify those who are eligible for YouthBuild and then use random assignment (like picking names from a hat) to select which of the eligible youth will be admitted. The youth who are selected will form the “program group” for the study. The youth who are not selected will form the “control group” and will not be permitted to enroll in YouthBuild during the study period, though the grantees may be able to refer them to other youth programs in the community. Ideally, the evaluation should not cause YouthBuild programs to serve fewer youth than they otherwise would. If the programs selected for the study do not currently have more qualified applicants than they can accept, additional recruiting may be necessary.

Is it unethical to use random assignment to decide which youth to accept?

No, it is not unethical to use random assignment to determine who receives services. Random assignment is a fair way to allocate scarce program slots when there are more qualified applicants than a program can serve. In fact, some youth not selected for the program may be more willing to accept that this was due to the “flip of a coin” rather than to their personal characteristics. Before it is finalized, the study design will be reviewed by an Institutional Review Board to ensure that youth in the study will be treated fairly.

What data will grantees be required to provide to the evaluators?

The grantees will not have to do anything more than they usually do to stay in touch with the young people who participate in their program. The evaluators will obtain most data for the study from the DOL YouthBuild MIS, from government records, and from surveys of youth in the program and control groups. Grantee staff will be required to participate in one survey and host site visits by the research team. Also, grantees will be required to collect and enter some information into the MIS for all youth entering the study, some of whom will be assigned to the control group.

Who will be doing the evaluation?

ETA selected a team of three organizations to conduct the evaluation: MDRC (the lead), Mathematica Policy Research, and Social Policy Research Associates (SPRA). MDRC and SPRA are very familiar with YouthBuild programs through past evaluations and assessments.

II. Award Information

A. Award Amount

Under this competition, ETA intends to fund approximately 28 grants ranging from $700,000 to $1.1 million from the $30 million in FY 2010 funds and approximately 100 grants in the same range of amounts from the FY 2011 appropriation (pending availability of funding); however, this does not preclude DOL from funding grants at either a lower or higher amount, or funding a smaller or larger number of projects, based on the type and the number of quality submissions. Applicants are encouraged to submit budgets for quality projects at whatever funding level within this range is appropriate to their project. Applications requesting more than $1.1 million will be considered nonresponsive. The average annual cost per participant should be between $15,000 and $18,000. In the event that additional funds become available, ETA reserves the right to use such funds to select additional grantees from applications submitted in response to this solicitation.

B. Period of Performance

Grants will be awarded for a 3-year period of performance. This includes two years of core program operations (education, occupational skills training, and youth leadership development activities) for one or more cohorts of youth, plus an additional nine to twelve months of follow-up support services and tracking of participant outcomes for each cohort of youth. Further, applicants should plan to fully expend grant funds during the period of performance, while ensuring full transparency and accountability for all expenditures. Therefore, applicants are encouraged to carefully consider their ability to spend the level of funding requested.

III. Eligibility Information

A. Eligible Applicants

Eligible applicants for these grants are public or private non-profit agencies or organizations (including a consortium of such agencies or organizations with a designated lead applicant), including, but not limited to:

• Faith-based and community organizations;

• An entity carrying out activities under WIA, such as a local workforce investment board, One-Stop Career Center, or local school board;

• A community action agency;

• A State or local housing development agency;

• An Indian tribe or other agency primarily serving Indians;

• A community development corporation;

• A State or local youth service conservation corps; or

• Any other public or private non-profit entity that is eligible to provide education or employment training under a Federal program and can meet the required elements of the grant.

Grantees who received funding in the FY 2009 YouthBuild competition [SGA/DFA PY 08-07] (including any affiliates or members or affiliates of a grantee's leadership team) will not receive funding from the remaining approximately $30 million in FY 2010 funds. Projects funded from the FY 2010 funds will be limited to applications submitted by organizations that did not receive funding from the FY 2009 YouthBuild competition [SGA/DFA PY 08-07]. If FY 2009 YouthBuild competition [SGA/DFA PY 08-07] grantees are selected for funding in this competition, they will be funded from the FY 2011 appropriation, pending availability of funds.

B. Eligible Enrollees

An individual may participate in a YouthBuild program only if the individual:

1. Is between the ages of 16 and 24 on the date of enrollment; and

2. Is a member of a low-income family, and/or a youth in foster care (including youth aging out of foster care), and/or a youth offender, and/or a youth who is an individual with a disability, and/or a child of an incarcerated parent, and/or a migrant youth; and

3. Is a school dropout or an individual who has dropped out of high school and re-enrolled in an alternative school, if that re-enrollment is part of a sequential service strategy.

Organizations are not required to serve the entire age group population between 16 and 24, but all participants must fall within this range.

Up to (but not more than) 25 percent of the participants in the program may be youth who do not meet criteria B.2 or B.3 above, but:

• Are basic skills deficient, despite attainment of a secondary school diploma, GED credential, or other state-recognized equivalent (including recognized alternative standards for individuals with disabilities); or

• Have been referred by a local secondary school for participation in a YouthBuild program leading to the attainment of a secondary school diploma. Referrals from secondary schools to YouthBuild programs that provide only a GED degree are not allowed.

C. Veterans Priority

The Jobs for Veterans Act (Pub. L. 107-288) requires priority of service for veterans and spouses of certain veterans for the receipt of employment, training, and placement services in any job training program directly funded, in whole or in part, by DOL. The regulations implementing this priority of service can be found at 20 CFR part 1010. In circumstances where a grant recipient must choose between two qualified candidates for a service, one of whom is a veteran or eligible spouse, the veterans priority of service provisions require that the grant recipient give the veteran or eligible spouse priority of service by first providing him or her that service. To obtain priority of service, a veteran or spouse must meet the program's eligibility requirements. Grantees must comply with DOL guidance on veterans' priority. ETA's Training and Employment Guidance Letter (TEGL) No. 10-09 (issued November 10, 2009) provides guidance on implementing priority of service for veterans and eligible spouses in all qualified job training programs funded in whole or in part by DOL. TEGL No. 10-09 is available at http://wdr.doleta.gov/directives/corr_doc.cfm?DOCN=2816.

D. Matching Funds and Leveraged Resources

Aligning resources and leveraging funding are key components of success under the YouthBuild grant program. Therefore, applicants must provide cash or in-kind resources equivalent to 25 percent of the grant award amount as matching funds. Please note that neither prior investments nor Federal resources may be counted towards the matching funds threshold. Construction materials that are acquired without grant funds and are used for approved projects as part of the training for YouthBuild participants may be used in fulfilling the 25 percent match requirement.

To be allowable as part of match, a cost must be an allowable charge for Federal grant funds. Determinations of allowable costs will be made in accordance with the applicable Federal cost principles as indicated in Part IV.E. If the cost would not be allowable as a grant-funded charge, then it also cannot be counted toward matching funds.

Please note that in addition to the Federal amount you are requesting, the matching funds must be shown on the SF-424 application and SF-424A budget form. The SF-424A form is required even though the form states that it should only be used for non-construction. If there is a discrepancy in the amount of funds specified on the SF-424, SF-424A, or Budget Narrative, DOL will consider the amount of funds specified on the SF-424 as the applicant's match.

Applicants are expected to fulfill the match amount specified during the grant period of performance. If the match amount specified by the applicant is not met or if a portion of the matching funds are found to be an unallowable cost, the amount of DOL grant funds may be decreased on a dollar for dollar basis. If this occurs the grantee may be required to repay funds to DOL. Applicants who fail to provide a 25 percent match will be considered non-responsive.

Applicants are encouraged to leverage additional resources beyond the match amount to supplement the project as a whole. Any cash or in-kind resources committed beyond the 25 percent of the grant award amount required as matching funds should be counted as leveraged funds. Applicants must clearly make the distinction between what will be considered matching funds and what will be considered “additional” leveraged resources, and explain leveraged resources in the budget narrative separately from the explanation of match. Do not include the leveraged funds on the SF-424 or SF-424A.

Both matching funds and leveraged resources could come from a variety of sources, including: public sector (e.g., State or local governments); non-profit sector (e.g., community organizations, faith-based organizations, or education and training institutions); private sector (e.g., businesses or industry associations); investor community (e.g., angel networks or economic development entities); and the philanthropic community (e.g., foundations).

Applications will be evaluated on how the match and leveraged funds are fully integrated in support of program outcomes. Grantees must track and report both match and other non-Federal leveraged resources quarterly on Form ETA 9130. Instructions and the form may be found at http://www.doleta.gov/grants/financial_reporting.cfm.

IV. Application and Submission Information

A. How To Obtain an Application Package

This SGA contains all of the information and links to forms needed to apply for grant funding.

B. Content and Form of Application Submission

The proposal will consist of three separate and distinct parts—(I) a cost proposal; (II) a technical proposal (with attachments); and (III) a description of and information on the work site. Applications that do not contain all three parts (including the required attachments) or that fail to adhere to the instructions in this section will be considered non-responsive and will not be considered. It is the applicant's responsibility to ensure that the funding amount requested is consistent across all parts and sub-parts of the application.

Part I. The Cost Proposal. The Cost Proposal must include the following four items:

• SF-424, “Application for Federal Assistance” (available at http://www.grants.gov/agencies/forms_repository_information.jsp. The SF-424 must clearly identify the applicant and be signed by an individual with authority to enter into a grant agreement. Upon confirmation of an award, the individual signing the SF-424 on behalf of the applicant will be considered the authorized representative of the applicant.

• All applicants for Federal grant and funding opportunities are required to have a Data Universal Numbering System (D-U-N-S® number). See Office of Management and Budget (OMB) Notice of Final Policy Issuance, 68 FR 38402, June 27, 2003. Applicants must supply their D-U-N-S® number on the SF-424. The D-U-N-S® number is a non-indicative, nine-digit number that uniquely identifies business entities. Obtaining a D-U-N-S® number is easy and there is no charge. To obtain a D-U-N-S® number, call 1-866-705-5711 or access this Web site: www.dunandbradstreet.com.

• The SF-424A Budget Information Form (available at http://www.grants.gov/agencies/forms_repository_information.jsp) In preparing the Budget Information Form, the applicant must provide a concise narrative explanation to support the request, explained in detail below.

The amount of Federal funding requested for the entire period of performance (i.e., three years) must be included on both the SF-424 and SF-424A Budget Information Form. Only an applicant's match amount (not other leveraged resources) should be listed on the SF-424 (Block 18) and SF-424A Budget Information Form (Sections A & C). Please note that the funding amount included on the SF-424 will be considered the official funding amount requested.

• Budget Narrative: The budget narrative must provide a description of costs associated with each line item on the SF-424A. Additionally, the budget narrative should break down the budget, match, and leveraged resources by project activity, must discuss cost-per-participant, and must discuss precisely how the administrative costs support the project goals. If the applicant plans to use grant funds for paid work experiences, needs-based payments, and other supportive services for the participants, sufficient information must be provided in the budget narrative to clearly justify the proposed amounts to be provided.

Please note that applicants that fail to provide a SF-424, SF-424A, a D-U-N-S® number, and a budget narrative will be considered non-responsive, and removed from consideration before the technical review process. Applicants are also encouraged, but not required, to submit OMB Survey No. 1890-0014: Survey on Ensuring Equal Opportunity for Applicants, which can be found at http://www07.grants.gov/applicants/tips_resources_from_grantors.jsp#13.

Part II. The Technical Proposal. The Technical Proposal must demonstrate the applicant's capability to implement the YouthBuild grant project in accordance with the provisions of this solicitation. The guidelines for the content of the Technical Proposal are provided in Part V.A of this SGA. The Technical Proposal is limited to 20 double-spaced, single-sided 8.5 x 11 inch pages with 12 point text font and 1 inch margins. Applicants should number the Technical Proposal beginning with page number 1. Any materials beyond the 20-page limit will not be read.

Part IIA. Attachments to the Technical Proposal. In addition to the 20 page Technical Proposal, the applicant must submit the following required attachments:

(a) An organizational chart that reflects how the YouthBuild program will be staffed. In instances where the YouthBuild program is part of a larger organization (e.g., a Housing Authority), include a diagram that indicates how the YouthBuild program fits within the larger organization;

(b) A timeline outlining project activities;

(c) Letters of commitment from partners; and

(d) A two-page Abstract summarizing the proposed project, including applicant name, project title, a description of the area to be served, and the funding level requested. The Abstract must note whether the application is being submitted as an urban, rural, or Native American application.

These additional required materials do not count against the 20 page limit for the Technical Proposal, but may not exceed 20 pages. Any additional materials beyond the 20 page attachment limit will not be read. Any additional materials other than those listed in Part II A a), b), c), or d) should not be included in the Technical Proposal Attachment and will not be read. ETA does not permit general letters of support submitted by organizations or individuals that are not partners in the proposed project and that do not directly identify the specific commitment or roles of the project partners. Therefore, additional materials, such as résumés or general letters of support or commitment, will not be read.

The required attachments must be affixed as separate, clearly identified appendices to the application. Commitment letters must accompany the application electronically, not be mailed separately. Please note that applicants should not send letters of commitment separately to ETA because letters received separately are tracked through a different system and will not be attached to the application for review. Applications that do not include the required attachments will be considered non-responsive and not reviewed.

An audited financial statement and accompanying management letter (if applicable) is requested in Section V.A.2.i, but neither counts towards the page limitations for either the Technical Proposal or the Technical Proposal Attachment and should be included as an appendix. This appendix has no page limits.

Part III. The Worksite Description. The applicant must submit the Worksite Description Form (ETA-9143) including all requested attachments, which describes the planned worksite that will be used for on-site housing rehabilitation and construction training for youth participants. These forms can be found at http://www.doleta.gov/youth%5Fservices/pdf/Work_Site_DescriptionAugus%202010.xls. Information on property for use in year two of your grant may be required. These forms do not count towards the 20 page limitation for either the Technical Proposal or the Technical Proposal Attachment; this is a separate part of the proposal. Please note that before finalizing the grant award document, prospective award winners must be able to re-verify information on the worksite and access to the property before grant funds are released.

Section 10 of ETA 9143 requests information from the property owner or property management company or companies allowing access to the housing site(s) for on-site construction training. DOL will deem non-responsive any application that fails to specifically identify the location of the on-site construction, including evidence of site access. Guidance on evidence of site access is as follows:

• If the applicant has a contract or option to purchase the property, include a copy of the contract or option; or

• If a third party owns the property or has a contract or option to purchase, that third party must provide a letter stating the nature of the ownership and specifically providing access to the property for the purposes of the program and the time frame in which the property will be available. In the case of a contract or option, include a copy of the document. These should be included as part of Part III of your application and do not count against page limitations.

C. Submission Process, Date, Times, and Addresses

Applications may be submitted electronically on Grants.gov or in hard copy by mail or hand delivery. Applicants submitting proposals in hard copy must submit an original signed application (including the SF-424) and one “copy-ready” version free of bindings, staples, or protruding tabs to ease in the reproduction of the proposal by DOL. Applicants submitting proposals in hard copy also must provide an identical electronic copy of the proposal on compact disc (CD). If discrepancies between the hard copy submission and CD copy are identified, the application on the CD will be considered the official application for evaluation purposes. Failure to provide identical applications in hard copy and CD format may have an impact on the overall evaluation.

The closing date for receipt of applications of this announcement is December 3, 2010. Applications must be received at the address below no later than 4 p.m. Eastern Time. Applications sent by e-mail, telegram, or facsimile (FAX) will not be accepted. If an application is submitted by both hard copy and through http://www.grants.gov, a letter must accompany the hard copy application stating why two applications were submitted and the differences between the two submissions. If no letter accompanies the hard copy, we will review the copy submitted through http://www.grants.gov. Applications that do not meet the conditions set forth in this notice will be considered non-responsive. No exceptions to the mailing and delivery requirements set forth in this notice will be granted. Further, documents submitted separately from the application, before or after the deadline, will not be accepted as part of the application.

Mailed applications must be addressed to the U.S. Department of Labor, Employment and Training Administration, Division of Federal Assistance, Attention: Donna Kelly, Grant Officer, Reference SGA/DFA PY 10-02, 200 Constitution Avenue, NW., Room N4716, Washington, DC 20210. Applicants are advised that mail delivery in the Washington, DC area may be delayed due to mail decontamination procedures. Hand-delivered proposals will be received at the above address at the 3rd and C Street entrance. All overnight mail will be considered to be hand-delivered and must be received at the designated place by the specified closing date and time.

Applications that are submitted through Grants.gov must be successfully submitted at http://www.grants.gov no later than 4 p.m. Eastern Time on the closing date, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. Applicants should read through the registration process carefully before registering. These steps may take as much as four weeks to complete and this time should be factored into plans for electronic submission in order to avoid unexpected delays that could result in the rejection of an application. The site also contains registration checklists to help walk you through the process. The Department strongly recommends that applicants download the “Organization Registration Checklist” at http://www.grants.gov/assets/Organization_Steps_Complete_Registration.pdf and prepare the information requested before beginning the registration process. Reviewing and assembling required information before beginning the registration process will alleviate last minute searches for required information and save time.

To register with Grants.gov, applicants applying electronically must have a D-U-N-S® Number and must register with the Federal Central Contractor Registry (CCR). Step-by-step instructions for registering with CCR can be found at http://www.grants.gov/applicants/org_step2.jsp. All applicants must register with CCR in order to apply online. Failure to register with the CCR will result in your application being rejected by Grants.gov during the submission process.

The next step in the registration process is creating a username and password with Grants.gov to become an Authorized Organizational Representative (AOR). AORs will need to know the D-U-N-S® Number of the organization for which they will be submitting applications to complete this process. To read more detailed instructions for creating a profile on Grants.gov visit: http://www.grants.gov/applicants/org_step3.jsp.

After creating a profile on Grants.gov, the E-Biz Point of Contact (E-Biz POC), a representative from your organization who is the contact listed for CCR, will receive an e-mail to grant the AOR permission to submit applications on behalf of their organization. The E-Biz POC will then log in to Grants.gov and approve an applicant as the AOR, thereby giving him or her permission to submit applications. To learn more about AOR Authorization visit: http://www.grants.gov/applicants/org_step5.jsp or to track AOR status visit: http://www.grants.gov/applicants/org_step6.jsp.

An application submitted through Grants.gov constitutes a submission as an electronically signed application. The registration and account creation with Grants.gov, with E-Biz POC approval, establishes an AOR. When you submit the application through Grants.gov, the name of your AOR on file will be inserted into the signature line of the application. Applicants must register the individual who is able to make legally binding commitments for the applicant organization as the AOR; this step is often missed and it is crucial for valid submissions.

When a registered applicant submits an application with Grants.gov, an electronic time stamp is generated within the system when the application is successfully received by Grants.gov. Within two business days of application submission, Grants.gov will send the applicant two e-mail messages to provide the status of the application's progress through the system. The first e-mail, sent almost immediately, will contain a tracking number and will confirm receipt of the application by Grants.gov. The second e-mail will indicate the application has either been successfully validated or has been rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore, sufficient time should be allotted for submission (two business days) and, if applicable, additional time to address errors and receive validation upon resubmission (an additional two business days for each ensuing submission). It is important to note that if sufficient time is not allotted and a rejection notice is received after the due date and time, the application will not be considered.

To ensure consideration, the components of the application must be saved as .doc, .xls or .pdf files. If submitted in any other format, the applicant bears the risk that compatibility or other issues will prevent us from considering the application. ETA will attempt to open the document but will not take any additional measures in the event of problems with opening. In such cases, the non-conforming application will not be considered for funding.

We strongly advise applicants to use the plethora of tools and documents, including FAQs, which are available on the “Applicant Resources” page at http://www.grants.gov/applicants/resources.jsp.

ETA encourages new prospective applicants to view the online tutorial, “Grant Applications 101: A Plain English Guide to ETA Competitive Grants,” available through Workforce3One at: http://www.workforce3one.org/page/grants_toolkit.

To receive updated information about critical issues, new tips for users, and other time sensitive updates as information is available, applicants may subscribe to “Grants.gov Updates” at http://www.grants.gov/applicants/e-mail_subscription_signup.jsp.

If applicants encounter a problem with Grants.gov and do not find an answer in any of the other resources, call 1-800-518-4726 to speak to a Customer Support Representative or e-mail “support@grants.gov.” The Contact Center is open 24 hours a day, seven days a week. It is closed on Federal holidays.

Late Applications: For applications submitted on Grants.gov, only applications that have been successfully submitted no later than 4 p.m. Eastern Time on the closing date and then successfully validated will be considered. Applicants take a significant risk by waiting to the last day to submit by Grants.gov.

Any hard copy application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day before the date specified for receipt of applications. “Postmarked” means a printed, stamped, or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to these instructions will be a basis for a determination that the application was not filed on time and will not be considered. Evidence of timely submission by a professional overnight delivery service must be demonstrated by equally reliable evidence created by the delivery service provider indicating the time and place of receipt.

D. Intergovernmental Review

This funding opportunity is not subject to Executive Order (EO) 12372, “Intergovernmental Review of Federal Programs.”

E. Funding Restrictions

All proposal costs must be necessary and reasonable in accordance with Federal guidelines. Determinations of allowable costs will be made in accordance with the applicable Federal cost principles, e.g., Non-Profit Organizations—OMB Circular A-122. Disallowed costs are those charges to a grant that the grantor agency or its representative determines not to be allowed in accordance with the applicable Federal cost principles or other conditions contained in the grant. Applicants will not be entitled to reimbursement of pre-award costs.

1. Legal Rules Pertaining to Inherently Religious Activities by Organizations That Receive Federal Financial Assistance

Direct Federal grants, sub-awards, or contracts under this program must not be used to support inherently religious activities such as religious instruction, worship, or proselytization. Therefore, organizations must take steps to separate, in time or location, their inherently religious activities from the services supported with DOL financial assistance under this program. Neutral, secular criteria that neither favor nor disfavor religion must be employed in the selection of grant and sub-grant recipients. In addition, under WIA and DOL regulations implementing WIA, a recipient may not use direct Federal assistance to train a participant in religious activities, or employ participants to construct, operate, or maintain any part of a facility that is used or to be used for religious instruction or worship. See 29 CFR 37.6(f). Under WIA, “[n]o individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” 29 U.S.C. 2938(a)(2). Regulations on the Equal Treatment for Faith-Based Organizations, which includes the prohibition against supporting inherently religious activities with direct DOL financial assistance, can be found at 29 CFR part 2, subpart D. Provisions relating to the use of indirect support (such as vouchers) are at 29 CFR 2.33(c) and 20 CFR 667.266.

A faith-based organization receiving Federal financial assistance retains its independence from Federal, State, and local governments, and may continue to carry out its mission, including the definition, practice, and expression of its religious beliefs. For example, a faith-based organization may use space in its facilities to provide secular programs or services supported with Federal financial assistance without removing religious art, icons, scriptures, or other religious symbols. In addition, a faith-based organization that receives Federal financial assistance retains its authority over its internal governance, and it may retain religious terms in its organization's name, select its board members on a religious basis, and include religious references in its organization's mission statements and other governing documents in accordance with all program requirements, statutes, and other applicable requirements governing the conduct of DOL funded activities.

The Religious Freedom Restoration Act (RFRA), 42 U.S.C. sec. 2000bb, applies to all Federal law and its implementation. If your organization is a faith-based organization that makes hiring decisions on the basis of religious belief, it may be entitled to receive Federal financial assistance under Title I of WIA and maintain that hiring practice even though Section 188 of WIA contains a general ban on religious discrimination in employment. If you are awarded a grant, you will be provided with information on how to request such an exemption.

Faith-based and community organizations may reference “Transforming Partnerships: How to Apply the U.S. Department of Labor's Equal Treatment and Religion-Related Regulations to Public-Private Partnerships” at: http://www.workforce3one.org/view/5566/info.

2. Indirect Costs

As specified in OMB Circular Cost Principles, indirect costs are those that have been incurred for common or joint objectives and cannot be readily identified with a particular final cost objective. In order to use grant funds for indirect costs incurred, the applicant must obtain an Indirect Cost Rate Agreement with its Federal Cognizant Agency either before or shortly after the grant award. If an applicant already has a Federal Indirect Cost Rate Agreement, that agreement may be used.

3. Administrative Costs

Under the YouthBuild grants, an entity that receives a grant to carry out a project or program may not use more than 15 percent of the amount of the grant to pay administrative costs associated with the program or project. Administrative costs could be direct or indirect costs and are defined at 20 CFR 667.220. Administrative costs do not need to be identified separately from program costs on the SF-424A Budget Information Form. They should be discussed in the budget narrative and tracked through the grantee's accounting system. To claim any administrative costs that are also indirect costs, the applicant must obtain an indirect cost rate agreement from its Federal Cognizant Agency as specified above.

4. Intellectual Property Rights

The Federal Government reserves a paid-up, nonexclusive, and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

If applicable, the following needs to be on all products developed in whole or in part with grant funds:

This workforce product was funded by a grant awarded by the U.S. Department of Labor's Employment and Training Administration. The product was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This product is copyrighted by the institution that created it. Internal use by an organization and/or personal use by an individual for non-commercial purposes is permissible. All other uses require the prior authorization of the copyright owner.

5. Salary and Bonus Limitations

Under Public Law 109-234, none of the funds appropriated in Public Law 109-149 or prior Acts under the heading “Employment and Training Administration” that are available for expenditure on or after June 15, 2006, may be used by a recipient or sub-recipient of such funds to pay the salary and bonuses of an individual, either as direct costs or indirect costs, at a rate in excess of Executive Level II, except as provided for in section 101 of Public Law 109-149. This limitation applies to grants funded by this Solicitation under Public Law 111-117, and will also apply to grants funded by this Solicitation under the FY 2011 appropriation. The salary and bonus limitation does not apply to vendors providing goods and services as defined in OMB Circular A-133 (codified at 29 CFR Parts 96 and 99). See TEGL No. 5-06 for further clarification: http://wdr.doleta.gov/directives/corr_doc.cfm?DOCN=2262.

F. Other Submission Requirements

Withdrawal of Applications: Applications may be withdrawn by written notice or telegram (including mailgram) to the Grant Officer received at any time before an award is made. Applications may be withdrawn in person by the applicant or by an authorized representative thereof, if the representative's identity is made known and the representative signs a receipt for the return of the proposal.

V. Application Review Information

A. Evaluation Criteria

This section identifies and describes the criteria that will be used to evaluate proposals for a YouthBuild Grant. These criteria and point values are:

Criterion | Points
1. Statement of Need | 10
2. Program Management, Organizational Capacity, and Evidence of Past and Projected Success in YouthBuild or Other Relevant Programs | 35
3. Project Design, Service Strategy, and Program Outcomes | 40
4. Linkages to Key Partners, Match and Leveraged Resources | 15
Total | 100

1. Statement of Need (10 Points)

Please describe the community where the YouthBuild program will operate. Identify the need for a YouthBuild program in the community that is proposed to be served through the grant and demonstrate the need for the project in that area. Applicants are expected to present information on various characteristics of the community(ies) in which they expect to operate. If there are particular neighborhoods within the city where the grant will be focused, describe these neighborhoods and provide available data specific to those areas. Required information includes the population of the area, its poverty rate, shortage of affordable housing, its unemployment rate, the graduation rate, and the number of 18-24 year olds without a high school diploma. In addition, because one of the goals of the YouthBuild program is to provide for the inclusion of tenants who were previously homeless individuals or families in the rental of housing provided through the program, the incidence of homelessness in your community should be included.

To obtain these indicators, applicants can use census tract data from the 2000 census—go to http://factfinder.census.gov and use the link on the left for People. Graduation rates for every school district in the nation may be found at http://www.edweek.org/apps/maps/.

All of these indicators must be presented in chart form, which may be single-spaced, and the applicant must provide the sources for the data provided. In addition, applicants should provide information on the economic and employment factors facing the community, including negative factors as well as promising economic and employment trends that will require an educated and skilled workforce.

If the organization plans to build or rehabilitate houses or community/public facilities in a different community from that in which youth will be recruited, present the homelessness and poverty data for that area and the unemployment, poverty, and graduation rates for the area in which the organization will be recruiting youth participants.

Applicants will be evaluated on:

• The clear and specific need for a YouthBuild program in their community, as evidenced by high poverty and low graduation rates; and

• The degree to which other factors in distressed communities, such as crime, unemployment, plant closures, or other indicators of economic decline, particularly in comparison with other areas of the city or state, are negatively impacting youth and their families.

2. Program Management, Organizational Capacity, and Evidence of Past and Projected Success in YouthBuild or Other Relevant Programs (35 Points).

i. Program Management and Organizational Capacity (15 Points)

The applicant must provide a description of the applicant's organization and a statement of its qualifications for running a YouthBuild program, including years of operation, current annual budget, continuity of leadership, and the experience of staff, their roles, as well as those of any consultants and collaborative organizations that may be part of operating the YouthBuild program. Applicants should include an organizational chart that reflects how the YouthBuild program will be staffed and, in instances where the YouthBuild program is part of a larger organization (e.g., a Housing Authority), a diagram that indicates where the YouthBuild program fits within the larger organization.

The applicant must fully describe the organization's capacity to track and report outcomes and its ability to collect and manage data in a way that allows consistent, accurate, and expedient reporting. The applicant must discuss the professional development activities available to staff, either on-site or through training funds.

The applicant must fully describe any previous experience of the organization in operating grants from either Federal or non-Federal sources. Describe the fiscal controls in place in the organization for auditing and accountability procedures. Applicant must also provide information on the overall financial stability of the organization that has financial oversight for this program. Applicants must include the most recent audited financial statements and, if applicable, the accompanying management letter. This attachment will not count towards your 20-page limit for either the technical proposal or attachments.

The applicant must describe the organization's ability to handle multiple funding streams with appropriate accounting systems in place.

The applicant must describe its proposed project management structure including, where appropriate, the identification of a proposed project manager, discussion of the proposed staffing pattern, and the qualifications and experience of key staff members or short job descriptions and their time commitment to the project.

Scoring under this criterion will be based on the extent to which applicants provide evidence of the following:

• The overall financial stability of the organization as demonstrated by strong accounting systems, fiscal controls, previous grants management, and the audited financial statements.

• The capacity of the applicant organization to accomplish the goals and outcomes of the project, including the ability to collect and manage data in a way that allows consistent, accurate, and expedient reporting.

• The time commitment of the proposed staff dedicated to the YouthBuild program is sufficient to ensure proper direction, management, and timely completion of the project.

• The roles and contribution of staff, consultants, and collaborative organizations are clearly defined and linked to specific tasks.

• The background, experience, and other qualifications of the staff are sufficient to carry out their designated roles.

• The adequacy of the budget and narrative to run the proposed program, including the cost per participant, which should not exceed the range of $15,000-$18,000.

ii. Evidence of Past Success in YouthBuild or Other Relevant Programs (20 Points)

The applicant must fully describe and document past accomplishments it has had operating a YouthBuild program or another youth workforce development program that is comparable to YouthBuild in its complexity and duration in the provision of education and skills training for at-risk youth, including skills training in housing rehabilitation and construction activities. If you have previously received a YouthBuild award from DOL, please include the quarterly performance numbers from the most recently submitted Quarterly Performance Report. The applicant must describe the program and how long the program has been in operation. Applicants that have operated a YouthBuild program or another comparable youth workforce development program must provide in a chart, which may be single-spaced, the following information:

• Program duration (e.g., months participants are enrolled in the program);

• Number of youth recruited;

• Number of youth enrolled;

• Number of youth who successfully completed the program;

• Number and percent of youth receiving their GED, high school diploma, and/or other state recognized equivalent (including recognized alternative standards for individuals with disabilities; please differentiate between these credentials);

• Rate of literacy and numeracy gains by participants;

• Number and percent of youth who have entered construction-related employment;

• Number and percent of youth who have entered other employment;

• Employment retention rates;

• Number and percent of youth who have entered post-secondary training or education;

• Post-secondary training or education retention rates (where available, please indicate the number of participants who have completed post-secondary training or education and have achieved a credential);

• Number and percent of youth who have entered registered apprenticeship programs; and

• Cost per participant.

The applicant must indicate the projected enrollment per year. Please fully describe how both the academic and skills training curricula were developed and how long they have been used. Please note that projected enrollment described in this section is not binding. At the time of grant award, DOL will inform grantees of expected enrollment goals as well as expected outcomes based on existing outcome data for a YouthBuild program or another comparable youth workforce development program. DOL reserves the right to set expected performance outcomes at a later date in the awards selection process.

Scoring under this criterion will be based on the extent to which applicants provide evidence of the following:

• The degree to which the performance data is provided and documented;

• The degree to which the organization has demonstrated success in working with at-risk youth and preparing them for employment or education;

• The complexity of construction activities undertaken and the degree to which youth are exposed and trained in a variety of construction skills;

• The use of occupational skills training curriculum that resulted in youth receiving industry-recognized credentials, e.g., the National Center for Construction Education and Research, the Home Builders Institute's curriculum, or the Building Trades Multi-Craft Core curriculum; and

• The use of State-approved curricula for either GED or high school diploma.

3. Project Design, Service Strategy, and Program Outcomes (40 Points Total).

i. How will youth be recruited and selected for the program? (5 Points)

The applicant must provide a description that fully demonstrates how eligible youth will be recruited and selected as participants, including a description of arrangements that will be made for the recruitment and selection of eligible youth with the following groups: Local Workforce Investment Boards, One-Stop Career Centers, faith-based and community organizations, State educational agencies or local educational agencies (including agencies of Indian tribes), public assistance agencies, the courts of jurisdiction, agencies operating shelters for homeless individuals, people with disabilities, and other agencies that serve youth who are homeless individuals, foster care agencies, and other appropriate public and private agencies. The applicant must provide a description that fully demonstrates the outreach efforts that will be undertaken to recruit eligible young women (including young women with dependent children) as participants. Scoring under this criterion will be based on the extent to which applicants provide evidence of the following:

• The quality and comprehensiveness of their recruitment strategy including methods for outreach, referral, and selection.

• The program's successful efforts to recruit eligible young women into the YouthBuild program or other comparable youth workforce development program.

ii. How will education and occupational skills training be delivered to youth as required by the YouthBuild Transfer Act in an integrated and cross-cutting manner? (20 Points)

The applicant must fully demonstrate how the academic program is integrated with the occupational skills training component of the program. The applicant must explain how academic and occupational skills training instructors work together to reinforce and complement classroom and workplace lessons and how other innovative teaching strategies are used in the program. Describe how the applied learning of the construction trades will improve and enhance the academic outcomes for the youth and provide examples of the integration of these two YouthBuild program components.

The applicant must provide a description that fully demonstrates the educational and job training activities, work opportunities, post-secondary education and training opportunities, and other services that will be provided to participants, and how those activities, opportunities, and services will prepare youth for employment in construction occupations in demand in the local labor market. Given the connection between education and earnings, DOL expects that the academic component will be rigorous and challenging and will provide youth with opportunities to transition to post-secondary training. The program must be structured so that participants in the program are offered education and related services designed to meet educational needs for at least 50 percent of the time during which they participate in the program. YouthBuild program participants must be offered work and skill development activities in housing rehabilitation and construction activities, for at least 40 percent of the time during which they participate in the program. The 50-40 time allocation applies at the program level and not to the actual time that an individual spends in a component.

The applicant must indicate the type of academic credential that participants will earn while in the program (GED, high school diploma or degree certificate, or other state recognized equivalent including recognized alternative standards for people with disabilities). The applicant must fully describe the quality of the academic program and the qualifications of the teaching staff. The applicant must fully describe any innovative and successful strategies that the program or initiative has used to address low basic skills of participants. The applicant must describe if and how the academic portion of your program differs from that of a traditional comprehensive high school. If distance learning and/or credit retrieval is used, please fully describe how this is incorporated into the overall academic program. The applicant must describe how student mastery is demonstrated.

The applicant must describe how it will link program participants to local community colleges and trade schools, particularly for YouthBuild programs that only offer GEDs to participants. Please also describe the types of college exploration, planning, preparation, and assistance that will be provided.

The applicant must discuss the occupational skills training component of the program, including where and how the training will be conducted, how the curriculum is developed, the type of industry-recognized credentials that result from the training, the inclusion of green construction skill training, and the involvement of industry partners and apprenticeship programs in the development of the training. Please describe the skills and qualifications of the occupational skills training instructors. Applicants must provide the worksite form ETA-9143 and all related attachments as part of their proposal. All information requested on the ETA-9143 and related attachments must be addressed in full in order to be considered responsive to this requirement. Please provide a description of the payment structure for participants.

The applicant must describe how it will oversee the worksite to identify existing and potential hazards, how youth will be trained to protect themselves from potential worksite accidents, and how hazards will be prevented and controlled through policies and procedures. Provide information on how worksite supervisors will be trained to ensure OSHA-approved worksite safety. The applicant must indicate the ratio of adults to youth at construction training sites.

This section of the proposal will be rated on:

• The use of innovative and evidence-based instructional strategies to address basic skills deficiencies;

• The extent to which a challenging curriculum is provided;

• The extent to which project-based learning or other methods of integrating education and occupational skill training are used;

• The specific partnerships that create explicit links for participants to local community colleges and trade schools;

• The degree to which career and college exploration are incorporated into the overall culture of the program;

• The availability of industry-recognized credentials upon completion of the occupational skills training components of the program;

• The strength of connections to business partners and apprenticeship programs;

• The comprehensiveness of form ETA-9143 describing the worksite and access;

• The comprehensiveness of safety plans for the occupational skills training worksite, including the training of staff and participants in OSHA guidelines;

• The extent of green construction training that is included in the overall construction curriculum;

• The proposed time period during which educational programming will be offered (including when the programming will be offered and the amount of time that it will be offered);

• The proposed time period during which occupational skills training will be offered (including when the programming will be offered and the amount of time that it will be offered); and

• The quality of the integration of these two components.

iii. How will community service learning and leadership development opportunities be provided for youth in the program? (5 Points)

The applicant must describe the proposed leadership curriculum, qualifications of instructors, and the impact of the proposed leadership activities on the target area. The application must fully describe the leadership development training that will be offered to participants, the expected leadership competencies with which participants will graduate, youth committee involvement strategies, efforts for providing the training to build group cohesion and peer support, and opportunities for continued leadership after graduation. The applicant must describe how community service learning opportunities will be implemented at the site.

Applicants will be evaluated on:

• The quality of leadership development and community service learning activities; and

• How these activities are integrated with academic, skills training, and career exploration components of the program.

iv. What types of post-program transition services will be provided and how will follow-up for outcome reporting and participant retention be assured? (10 Points)

Post-program transition services are defined as services offered during program enrollment that will assist a young person in making a successful transition from the YouthBuild program into employment and/or post-secondary education and training programs. Follow-up services are services that may be provided to a YouthBuild program participant upon exit from the program. Please fully describe the types of post-program transition services that will be offered to prepare youth for career pathway opportunities and placements and/or educational opportunities and placements. The applicant must describe how each individual's work readiness will be assessed and how work readiness training will be provided. Also describe how an individual's readiness for placement in post-secondary education and/or apprenticeship programs will be assessed. The applicant must demonstrate the types of career exploration and planning activities that will be offered by the program, particularly for high-growth, high-demand, and high-wage occupations. For a list of ETA's or the Department's Targeted High-Growth Industries, go to: http://www.doleta.gov/brg/jobtraininitiative/#TargetedIndustries.

The applicant must describe the program's job placement and retention strategy, including how the program will work with employers and/or One-Stop Career Centers to identify and create job openings for the young people served by the program. Describe the types of follow-up services that will be provided to support youth as they transition to post-secondary education or employment and ensure that they are retained in placements. Describe how appropriate continued support services will be provided during the nine to twelve month follow-up period.

Important elements for evaluation include:

• The degree to which work readiness and career exploration are integrated into the culture, core mission, and activities of the program;

• The program's integrated approach to providing post-program planning for participants; and

• The structure of its participant follow-up service strategy.

4. Linkages to Key Partners, Match and Leveraged Resources (15 Points Total)

i. Who are the key partners that will be supporting the program? (10 Points)

The applicant must describe the key partners who will be involved in the proposed YouthBuild project. Specifically, describe in detail the activities to be undertaken by partners, the level of commitment from each partnering organization, and their qualifications to assist with this project. As an attachment, the applicant must include letters of commitment from key partners that demonstrate the strength and maturity of the partnership, including previous collaboration on projects. Please note that letters of support do not equate to letters of commitment and should not be included.

The applicant must provide a description of how the proposed program will coordinate with Federal, State, and local agencies and Indian tribes to access services, including local workforce investment activities with One-Stop Career Centers and their cooperating partners, vocational education programs, faith-based organizations, limited English proficiency instruction programs, and activities conducted by public schools, community colleges, and national service programs, as well as other job training provided with funds available under this title.

The applicant must describe partnerships with the juvenile justice system, adult probation/parole agencies, and housing and community development systems. The applicant must fully describe the specific role of employers in the proposed program, such as their role in developing the proposed program and assisting in service provision and in placement activities. The applicant must fully describe the program's relationship with local building trade unions and their role in training, the relationship of the proposed program to established registered apprenticeship programs and employers, and the ability of the applicant to grant industry-recognized skills certifications through the program.

The applicant must indicate the types of private funding the organization has secured in the past. Also, fully describe long-term partnerships with organizations that have added to the robustness of the program and how the organization has sustained these partnerships. The applicant must discuss how they have successfully managed partnerships.

Points for this factor will be awarded based on:

• The commitment of additional resources to the proposed program (in addition to the funds made available through the grant) by:

(1) An applicant;

(2) Recipients of other Federal, State, or local housing and community development assistance who will sponsor any part of the rehabilitation, construction, operation and maintenance, or other housing and community development activities undertaken as part of the proposed program; or

(3) Entities carrying out other Federal, State, or local activities or activities conducted by Indian tribes, including vocational education programs, adult and language instruction educational programs, and job training using funds provided under WIA.

• An applicant's ability to attract as partners in the proposed program:

(1) Education and training providers including:

(i) The kindergarten through twelfth grade educational system;

(ii) Adult education;

(iii) Community and technical colleges;

(iv) Four-year colleges and universities;

(v) Registered apprenticeship programs; and

(vi) Other training entities.

(2) Employers, including professional organizations and associations. An applicant will be evaluated on the extent to which employers participate in:

(i) Defining the program strategy and goals;

(ii) Identifying needed skills and competencies;

(iii) Designing training approaches and curricula;

(iv) Contributing financial support; and

(v) Hiring qualified YouthBuild graduates.

(3) The workforce investment system which may include:

(i) State and local workforce investment boards;

(ii) State workforce agencies; and

(iii) One-Stop Career Centers and their cooperating partners.

(4) The juvenile justice system, and the extent to which it provides:

(i) Support and guidance for YouthBuild participants with court involvement; and

(ii) Assists in the reporting of recidivism rates among YouthBuild participants.

(5) Faith-based and community organizations that serve at-risk and disadvantaged youth, and the extent to which they provide a variety of grant services such as:

(i) Case management;

(ii) Mentoring;

(iii) English as a Second Language courses; and

(iv) Other comprehensive supportive services, when appropriate.

(6) Local building trade unions and established registered apprenticeship programs and the extent to which they play a role in training, developing curricula, and providing post-program opportunities for employment or entry into training programs.

(7) Housing authorities, where appropriate, and how they are engaged in the YouthBuild program including, the recruitment of potential participants, the provision of worksites for participant training, office or training space, staff, and any other resources that they may be providing to the YouthBuild program;

• The partners' knowledge and experience about the proposed grant activities and their ability to impact the success of the project;

• Evidence, including letters of commitment (not letters of support), that key partners have expressed a clear dedication to the project and understand their areas of responsibility; and

• Evidence of the demonstrated ability of the applicant to successfully manage partnerships.

ii. What match and other leveraged resources are being contributed to this project? (5 Points)

Applicants should clearly describe the required matching funds (not to exceed 25 percent and any additional funds or resources leveraged in support of the proposed strategies and demonstrate how these funds contribute to the goals of the project. Important elements of the explanation include:

• Which partners and/or grant sub-recipients have or will contribute(d) match and leveraged resources and the extent of each contribution, including an itemized description of each contribution;

• The quality of the match and leveraged resources, including the extent to which each contribution will be used to further the goals of the project; and

• Evidence, such as letters of commitment (not letters of support), that key partners have expressed a clear commitment to provide the contribution.

Assessment of this criterion will be based on the extent to which the applicant fully describes the amount, commitment, nature, and quality of match and leveraged resources. A match in the sum of exactly 25 percent of the Federal funding request must be provided. Matching funds may be either cash or in-kind. Application will also be evaluated on the extent to which additional Federal, State, local, or private funding is provided for wraparound support services as well as to support the costs associated with their defined construction project. Both matching funds and additional leveraged resources will be scored based on the degree to which the source and use of those resources are clearly explained and the extent to which all resources are fully integrated into the project to support grant outcomes. Proposing a match amount in excess of the required 25 percent will NOT result in additional points and may have a negative impact on the overall evaluation.

B. Review and Selection Process

Applications for grants under this Solicitation will be accepted after the publication of this announcement and until the closing date. Proposals that are timely and responsive to the requirements of this SGA will be rated against the criteria listed above by an independent panel comprised of representatives from DOL, HUD, U.S. Department of Justice, U.S. Department of Health and Human Services, and other peers. The ranked scores will serve as the primary basis for selection of applications for funding, in conjunction with other factors such as urban, rural, and geographic balance; whether the areas to be served have previously received grants for YouthBuild programs; the availability of funds; and which proposals are most advantageous to the Department. The approximately $30 million that remains of FY 2010 funds will be reserved for awards to organizations that did not receive funding in the FY 2009 YouthBuild competition [SGA/DFA PY 08-07].

If an applicant that did not receive funding in the FY 2009 YouthBuild competition [SGA/DFA PY 08-07] does not receive an award from the approximately $30 million of FY 2010 funds, their application will automatically be considered for award from the FY 2011 appropriation.

The panel results are advisory in nature and not binding on the Grant Officer, who may consider any information that comes to his/her attention. The Department may elect to award the grant(s) with or without discussions with the applicants. Should a grant be awarded without discussions, the award will be based on the applicant's signature on the SF-424, which constitutes a binding offer by the applicant (including electronic signature via E-Authentication on http://www.grants.gov).

VI. Award Administration Information

A. Award Notices

All award notifications will be posted on the ETA homepage (http://www.doleta.gov). Applicants selected for award will be contacted directly before the grant's execution. Applicants not selected for award will be notified by mail. All applicants will be given the opportunity to request written feedback based on the technical panel review.

As part of the grant package and before any drawdown, all successful grantees will be required to re-confirm access to their proposed worksite. In addition, a revised worksite plan will be required before funds can be drawn down for the second year of the grant.

B. Administrative and National Policy Requirements

1. Administrative Program Requirements

All grantees will be subject to all applicable Federal laws, regulations, and the applicable OMB Circulars. The grant(s) awarded under this SGA will be subject to the following administrative standards and provisions:

i. Non-Profit Organizations—OMB Circular A-122 (Cost Principles), relocated to 2 CFR part 230, and 29 CFR part 95 (Administrative Requirements).

ii. Educational Institutions—OMB Circular A-21 (Cost Principles), relocated to 2 CFR part 220, and 29 CFR part 95 (Administrative Requirements).

iii. State, Local, and Indian Tribal Governments—OMB Circular A-87 (Cost Principles), relocated to 2 CFR part 225, and 29 CFR part 97 (Administrative Requirements).

iv. Profit Making Commercial Firms—Federal Acquisition Regulation (FAR)—48 CFR part 31 (Cost Principles), and 29 CFR part 95 (Administrative Requirements).

v. The Workforce Investment Act of 1998, Public Law 105-220, 112 Stat. 936 (codified, as amended, at 29 U.S.C. 2801 et seq.) and 20 CFR part 667 (General Fiscal and Administrative Rules);

vi. 29 CFR Part 37—Implementation of the Nondiscrimination and Equal Opportunity Provisions of the Workforce Investment Act of 1998;

vii. All entities must comply with 29 CFR parts 93 (New Restrictions on Lobbying), 29 CFR part 94 (Governmentwide Requirements for Drug-Free Workplace (Financial Assistance)), and 29 CFR part 98 (Governmentwide Debarment and Suspension), and, where applicable, 29 CFR part 96 (Audit Requirements for Grants, Contracts, and Other Agreements) and 29 CFR Part 99 (Audits of States, Local Governments and Non-Profit Organizations).

ix. 29 CFR part 2, subpart D—Equal Treatment in Department of Labor Programs for Religious Organizations, Protection of Religious Liberty of Department of Labor Social Service Providers and Beneficiaries.

x. 29 CFR part 31—Nondiscrimination in Federally Assisted Programs of the Department of Labor—Effectuation of Title VI of the Civil Rights Act of 1964.

xi. 29 CFR part 32—Nondiscrimination on the Basis of Handicap in Programs and Activities Receiving or Benefiting from Federal Financial Assistance.

xii. 29 CFR part 33—Enforcement of Nondiscrimination on the Basis of Handicap in Programs or Activities Conducted by the Department of Labor.

xiii. 29 CFR part 35— Nondiscrimination on the Basis of Age in Programs or Activities Receiving Federal Financial Assistance from the Department of Labor.

xiv. 29 CFR part 36—Nondiscrimination on the Basis of Sex in Education Programs or Activities Receiving Federal Financial Assistance.

The following administrative standards and provisions also may be applicable:

i. The YouthBuild Transfer Act, Public Law 109-281, 120 Stat 1173 (codified at 29 U.S.C. 2918a);

ii. 29 CFR parts 29 and 30—Labor Standards for the Registration of Apprenticeship Programs and Equal Employment Opportunity in Apprenticeship and Training;

iii. 29 CFR part 570—Child Labor Regulations, Orders, and Statements of Interpretation;

iv. The Davis-Bacon Act, as amended, 40 U.S.C. 3141 et seq. and 29 CFR part 5—Labor Standards Provisions Applicable to Contracts Covering Federally Financed and Assisted Construction;

v. Health and Safety Standards established under Federal and State Law (including the Occupational Safety and Health Act of 1970) otherwise applicable to working conditions of employees are equally applicable to working conditions of participants engaged in the activities funded by this grant. See 29 U.S.C. 2931(b)(4); and

vi. Environmental protection statutes and regulations as applicable.

In accordance with Section 18 of the Lobbying Disclosure Act of 1995 (Pub. L. 104-65) (2 U.S.C. 1611) non-profit entities incorporated under Internal Revenue Service Code section 501(c)(4) that engage in lobbying activities are not eligible to receive Federal funds and grants.

Other Administrative Standards and Provisions:

Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

Further, as a Federal agency, DOL has a statutory duty to affirmatively further fair housing. DOL requires the same of its funding recipients under this solicitation. If the organization is a successful applicant, the organization will have a duty to affirmatively further fair housing opportunities for classes protected under the Fair Housing Act. Protected classes include race, color, national origin, religion, sex, disability, and familial status. Therefore, the grantee must take specific steps to:

• Overcome the effects of impediments to fair housing choice that were identified in the jurisdiction's Analysis of Impediments (AI) to Fair Housing Choice;

• Remedy discrimination in housing; or

• Promote fair housing rights and fair housing choice.

Further, the applicant has a duty to carry out the specific activities provided in its responses to this solicitation that address affirmatively furthering fair housing.

2. Special Program Requirements

i. Evaluation of YouthBuild Program.

To measure the impact of the YouthBuild programs, DOL has arranged for an independent evaluation of the outcomes and benefits of the projects. ETA has contracted with an independent organization to conduct a rigorous, national evaluation of the YouthBuild program. A subset of grantees will be selected to participate in the evaluation and those that are selected will be required to participate.

The evaluation will use a random assignment design, which includes a computerized process that will randomly select which of the youth that grantees deem eligible for the program will receive YouthBuild services. This process, similar to drawing names from a hat, is fair and ensures that everyone has the same chance of getting YouthBuild services. Those who are not admitted will form a control group and may be referred to other non-similar youth services. The grantees will be responsible for obtaining the consent of applicants to be randomly selected to be in the control group, and for informing the applicants that they have been selected. The evaluation contractor will work with each grantee to develop study procedures that minimize any disruption of the grantee's intake procedures and program operations. It is expected that the evaluation will not reduce the total number of youth who are served by the YouthBuild program. For more information on the evaluation, please see the Q & A section of this solicitation.

C. Reporting

Grantees must agree to meet DOL reporting requirements. Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each program year quarter. Grantees must use DOL's On-Line Electronic Reporting System about which information and instructions will be provided to grantees.

2. Quarterly Narrative Progress Reports

The grantee must submit a quarterly progress report to their designated Federal Project Officer within 45 days after the end of each quarter. This report must provide a detailed account of activities undertaken during that quarter. The quarterly progress report should be in narrative form and should include:

i. In-depth information on accomplishments, including project success stories, upcoming grant activities, and promising approaches and processes.

ii. Progress toward performance outcomes, including updates on product, curricula, and training development.

3. Quarterly Performance Reports

Organizations will be required to submit updated data on enrollment, services provided, placements, outcomes, and follow-up status within 45 days after the end of each quarter. A government-procured, Web-based Case Management and Performance system will be provided at no charge to all grantees. Grantees will be required to have industry-standard computer hardware and high-speed Internet access in order to use the MIS system. Grant funds may be used with the prior approval of the Grant Officer to upgrade computer hardware and Internet access to enable projects to use the MIS system.

4. Injury Incident Reports

Organizations will be required to submit incident reports of injuries received by enrollees during the training program. DOL will provide specifications for this reporting after grant award.

5. Final Report

A final report must be submitted no later than 90 days after the expiration date of the grant. This report must summarize project activities, employment outcomes, and related results of the training project, and should thoroughly document capacity building and training approaches. The final report should also include copies of all deliverables, e.g. curricula and competency models. Three copies of the final report must be submitted to ETA, and grantees must agree to use a designated format specified by DOL for preparing the final report.

6. A Closeout Financial Status Report Is Due 90 Days After the End of the Grant Period.

7. Record Retention

Applicants should be aware of Federal guidelines on record retention, which require grantees to maintain all records pertaining to grant activities for a period of not less than 3 years from the time of final grant close-out.

VII. Agency Contacts

For further information about this SGA, please contact Ariam Ferro, Grants Management Specialist, Division of Federal Assistance, at (202) 693-3968 (please note this is not a toll-free number). Applicants should fax all technical questions to (202) 693-2705 and must specifically address the fax to the attention of Ariam Ferro and should include SGA/DFA PY 10-02, a contact name, fax and phone number, and e-mail address. This announcement is being made available on the ETA Web site at http://www.doleta.gov/grants/find_grants.cfm, at http://www.grants.gov, and in the Federal Register.

VIII. Additional Resources of Interest to Applicants

A. Web-Based Resources

DOL maintains a number of Web-based resources that may be of assistance to applicants:

• The Web site for ETA (http://www.doleta.gov) is a valuable source for background information on the High Growth Job Training Initiative.

• The Workforce3One Web site (http://www.workforce3one.org) is a valuable resource for information about demand-driven projects of the workforce investment system, educators, employers, and economic development representatives.

• America's Service Locator (http://www.servicelocator.org) provides a directory of the nation's One-Stop Career Centers.

• We encourage applicants to review “Applying for ETA Competitive Grants: A Web-Based Toolkit for Prospective Applicants” (http://www.workforce3one.org/page/grants_toolkit).

• For an understanding of the Department's Equal Treatment and Religion-Related regulations and the responsibilities of receiving Federal grant support, please see “Transforming Partnerships: How to Apply the U.S. Department of Labor's Equal Treatment and Religion-Related Regulations to Public-Private Partnerships” at: http://www.workforce3one.org/view/5566/info.

• TRAINING AND EMPLOYMENT NOTICE NO. 44-07 “Providing Strategies to the One-Stop Career Center System on Collaborating with YouthBuild Programs” can be found at http://wdr.doleta.gov/directives/corr_doc.cfm?DOCN=2646.

IX. Other Information

OMB Information Collection No. 1225-0086

OMB Information Collection No. 1225-0086, Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of: Departmental Clearance Officer, 200 Constitution Avenue, NW., Room N-1310, Washington, DC 20210. Comments may also be e-mailed to DOL_PRA_PUBLIC@dol.gov. Please do not return the completed application to this address. Send it to the sponsoring agency as specified in this solicitation.

This information is being collected for the purpose of awarding a grant. The information collected through this “Solicitation for Grant Applications” will be used by DOL to ensure that grants are awarded to the applicant best suited to perform the functions of the grant. Submission of this information is required in order for the applicant to be considered for award of this grant. Unless otherwise specifically noted in this announcement, information submitted in the respondent's application is not considered to be confidential.

Signed at Washington, DC, this 28th day of September 2010.
Donna Kelly,
Grant Officer, Employment and Training Administration.

[FR Doc. 2010-24825 Filed 10-1-10; 8:45 am]

BILLING CODE 4510-FT-P